ENVIRONMENTAL PROTECTION AGENCY

40 CFR Part 52

[EPA-R05-OAR-2016-0058; FRL-9969-61-Region 5]

Air Plan Approval; Michigan; Regional Haze Progress Report

AGENCY: Environmental Protection Agency (EPA).

ACTION: Direct final rule.

SUMMARY: The Environmental Protection Agency (EPA) is approving the Michigan regional haze progress report under the Clean Air Act (CAA) as a revision to the Michigan State Implementation Plan (SIP). Michigan has satisfied the progress report requirements of the Regional Haze Rule. Michigan has also met the requirements for a determination of the adequacy of its regional haze plan with its negative declaration submitted with the progress report.

DATES: This direct final rule will be effective December 18, 2017, unless EPA receives adverse comments by November 17, 2017. If relevant adverse comments are received, EPA will publish a timely withdrawal of the direct final rule in the Federal Register informing the public that the rule will not take effect.

ADDRESSES: Submit your comments, identified by Docket ID No. EPA-R05-OAR-2016-0058 at http://www.regulations.gov or via email to aburano.douglas@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the For Further Information Contact section. For the full EPA public comment policy, information about CBI or multimedia submissions, and general guidance on making effective comments, please visit http://www2.epa.gov/dockets/commenting-epa-dockets.

FOR FURTHER INFORMATION CONTACT: Gilberto Alvarez, Environmental Scientist, Attainment Planning and Maintenance Section, Air Programs Branch (AR-18J), Environmental Protection Agency, Region 5, 77 West Jackson Boulevard, Chicago, Illinois 60604, (312) 886-6143, alvarez.gilberto@epa.gov.

SUPPLEMENTARY INFORMATION: Throughout this document whenever “we,” “us,” or “our” is used, we mean EPA. This supplementary information section is arranged as follows:

I. Background

II. Requirements for the Regional Haze Progress Reports and Adequacy of Determinations

III. What is EPA's analysis?

IV. What action is EPA taking?

V. Statutory and Executive Order Reviews

I. Background

States are required to submit a progress report every five years that evaluates progress towards the Reasonable Progress Goals (RPGs) for each mandatory Class I Federal area within the State and in each mandatory Class I Federal area outside the State which may be affected by emissions from within the State. See 40 CFR 51.308(g). States are also required to submit, at the same time as the progress report, a determination of the adequacy of their existing regional haze SIP. See 40 CFR 51.308(h). The first progress report is due five years after the submittal of the initial regional haze SIP.

Michigan submitted its regional haze plan on November 5, 2010. EPA approved Michigan's regional haze plan into its SIP on December 3, 2012, 77 FR 71533.

In order to satisfy the requirements for Best Available Retrofit Technology (BART) for certain taconite ore processing facilities in Minnesota and Michigan, EPA promulgated a Federal Implementation Plan (taconite FIP) on February 6, 2013, 78 FR 8706. In Michigan, the taconite facility impacted by this FIP is the Tilden Mining Company. The taconite FIP was stayed by the Eighth Circuit Court of Appeals on June 14, 2013. EPA subsequently reached a settlement agreement with Cliffs Natural Resources and Arcelor Mittal that was fully executed on April 9, 2015. On April 12, 2016, EPA published a final rule that modifies the taconite FIP with the settlement agreement conditions, 81 FR 21672.

Michigan submitted its five-year progress report on January 12, 2016. The State submitted its determination of adequacy with the progress report.

There are two Class I areas in Michigan, Isle Royale National Park (Isle Royale) located on Lake Superior and Seney National Wildlife Refuge (Seney) located in Michigan's Upper Peninsula.

The emission reductions from several Federal programs contribute to visibility improvement in Michigan. In its regional haze plan, Michigan considered the emission reductions from the Tier 2 Gasoline, Heavy-duty Highway Diesel, Non-road Diesel, and a variety of Maximum Achievable Control Technology programs. Michigan elected to use the Cross-State Air Pollution Rule (CSAPR) to satisfy BART for its power plant units.

II. Requirements for the Regional Haze Progress Reports and Adequacy of Determinations

Under 40 CFR 51.308(g), states must periodically submit a regional haze progress report every five years that address the seven elements found in 40 CFR 51.308(g).

Under 40 CFR 51.308(h), states are required to submit, at the same time as the progress report, a determination of the adequacy of their existing regional haze SIP and to take one of four possible listed actions based on information in the progress report.

III. What is EPA's analysis?

The Regional Haze Rule provides the required elements for five-year progress reports at 40 CFR 51.308(g). EPA finds that Michigan satisfied the 40 CFR 51.308(g) requirements with its progress report. EPA finds that, with its negative declaration, Michigan also satisfied the requirements for the determination of adequacy provided in 40 CFR 51.308(h).

The following sections discuss the information provided by Michigan in the progress report submission, along with EPA's analysis and determination of whether the submission met the applicable requirements of 51.308.

1. Status of Implementation of All Measures Included in the Regional Haze SIP

In its progress report, Michigan summarizes the status of the emissions reduction measures that were included in its 2010 regional haze SIP. Specifically, the report addresses the status of the on-the-books emissions reduction measures. The measures include applicable Federal programs including: Clean Air Interstate Rule—or CAIR; CSAPR; Tier II for on-highway mobile sources; heavy-duty diesel standards; low sulfur fuel standards; and Federal control programs for non-road mobile sources. Michigan used CSAPR to satisfy BART for its subject electric generating units (EGUs). Even with the delay in implementing CSAPR, the EGUs in Michigan subject to BART have reduced sulfur dioxide (SO2) and nitrogen oxides (NOX) emissions. In the progress report, Michigan compares 2013 state-wide SO2 and NOX emissions from EGUs to 2009 emissions. In this period, SO2 emissions decreased from 310,000 tons to 230,109 tons, or by 26 percent. NOX emissions decreased from 144,440 tons to 122,653 tons, or by 15 percent.

Michigan also expects reductions of about 1,400 tons NOX per year, and 300 tons SO2 per year, from the implementation of the taconite FIP.

In its regional haze plan, Michigan noted the additional emission reductions expected from several Federal programs. Michigan considered the reductions from: Tier 2 Gasoline; Heavy-duty Highway Diesel; Non-road Diesel; and a variety of Maximum Achievable Control Technology programs. Michigan did not rely on additional emissions controls from other states in its regional haze strategy. The additional emission reductions from the programs and other states will not delay visibility improvement and may well accelerate the improvement.

Regarding the status of BART and reasonable progress control requirements for sources in the State, Michigan's progress report provides a summary of the five non-EGU sources identified in the 2010 Regional Haze SIP as subject to BART. These sources include the LaFarge Midwest Alpena Plant, Escanaba Paper Company, St. Marys Cement, Smurfit Stone Container Corporation and Tilden Mining Company. Three of the five BART sources are required to apply additional or more stringent controls beyond those required in the Michigan BART determinations due to USEPA disapprovals of the State BART determinations and issuance of additional FIPs.

EPA finds the implementation of Michigan's control measures adequate. EPA also expects SO2 and NOX emission reductions from the taconite facilities—most specifically, from the Tilden Mining Company in Michigan. However, given the implementation schedule in the taconite FIP, most of the resulting emission reductions will occur in the 2018-2028 implementation period.

EPA finds the summary of emission reductions achieved from control strategy implementation adequate.

2. Summary of Emissions Reductions Achieved in the State Through Implementation of Measures

In its regional haze SIP and progress report, Michigan focuses its assessment on NOX and SO2 emissions from EGUs as a result of the implementation of CAIR and CSAPR, as well as emissions from non-EGUs. In the progress report, Michigan listed emission reductions in terms of projected impacts on the two affected Class I areas—Isle Royale and Seney. Emissions reductions were presented based on the top ten in-state point sources impacting these two areas.

For the Isle Royale area, emission reduction for the top ten impacting point sources combined was 48,000 tons for SO2 and 8,400 tons for NOX. For the Seney area, emission reduction for the top 10 impacting point sources combined was 16,000 tons for SO2 and 2,700 tons for NOX.

EPA concludes that Michigan has adequately addressed the applicable requirements of 40 CFR 51.308. Michigan provides estimates of reductions of NOX and SO2 from EGUs and non-EGUs that have occurred since Michigan submitted its regional haze SIP. Given the large NOX and SO2 reductions that have actually occurred, further analysis of emissions from other sources or other pollutants was unnecessary in this first implementation period.

3. Assessment of Visibility Conditions and Changes for Each Mandatory Class I Federal Area in the State

Michigan reports that visibility conditions at Isle Royale National Park have improved to 18.9 deciviews (dv) in 2013 from its 2000-2004 baseline of 21.59 dv for the 20 percent most impaired days. The State also reports that visibility conditions at Seney have improved to 20.6 dv in 2013, from its 2000-2004 baseline of 24.37 dv for the 20 percent most impaired days. The 2018 reasonable progress goal is 20.86 dv for Isle Royale and 23.58 dv for Seney. For the 20 percent least impaired days at Isle Royale, visibility has improved 2.7 dv in 2013, from the 2000-2004 baseline. At Seney, visibility has improved 3.8 dv in 2013, from the 2000-2004 baseline.

Michigan provided annual and five-year rolling averages for the impaired and least impaired days at both Isle Royale and Seney from 2000 to 2014.

EPA finds that Michigan properly reported the current visibility conditions for the most impaired and least impaired days, the difference between current conditions and baseline conditions for the most impaired and least impaired days, and the change in visibility for the most impaired and least impaired days over the past five years. Michigan's visibility progress is on track as improvement has been shown for the 20 percent least impaired days and is on pace for the 20 percent most impaired days at both affected Class I areas.

4. Analysis Tracking Emissions Changes of Visibility-Impairing Pollutants

In its regional haze plan submitted in 2010, Michigan provided its 2005 base emissions and projected 2018 emissions. In the 2010 plan, Michigan compared the base data from 2005 with a 2009 emissions inventory constructed by the Lake Michigan Air Directors Consortium. The progress report gives current annual emissions for ammonia (NH3), NOX, SO2, coarse particulate matter (PM10), fine particulate matter (PM2.5), and reactive organic gases (ROG). These figures can be compared to the base and 2018 projected emissions. The emissions inventories from the 2005, 2009 and 2018 datasets include all point, nonpoint, on-road, non-road, marine-aircraft-rail (MAR), and other sources.

For SO2, Michigan reports 2005 base emissions of 439,145 tons, 2009 emissions of 303,159 tons, and projects 314,328 tons in 2018, which would be a 28 percent reduction from the 2005 base year. Michigan noted that SO2 emissions have been steadily declining. Point sources comprise 93 percent of SO2 emissions, so several projects at coal-burning EGUs have driven the decline in SO2 emissions.

For NOX, Michigan reports 2005 base emissions of 586,482 tons, 2009 emissions of 447,176 tons, and projects 309,549 tons in 2018, which would be a 47 percent decrease from the 2005 base year. For NOX emissions, mobile sources are the main contributing sector, and, as such, implementation of mobile source programs will continue to decrease NOX emissions in Michigan with expected reductions from EGUs and taconite facilities providing some assistance.

For PM10, Michigan reports a 2005 base of 98,181 tons, 2009 emissions of 105,301 tons, and projects 98,753 tons in 2018, which is an increase of less than 1% from the 2005 base year. For PM2.5, Michigan reports a 2005 base of 85,839 tons, 2009 emissions of 96,720, and projects 90,485 tons in 2018, which is an increase of 5.3% from the 2005 base year. In the 2010 Regional Haze SIP, Michigan predicted these particulate matter increases, but it was deemed insignificant relative to the visibility improvements from the large reductions of NOX and SO2 emissions over those same time periods. NOX and SO2 emissions reductions have a much greater impact on visibility improvement.

Table 1 below shows the emissions reductions from 2005-2009 versus projected 2018 emission reductions from the 2010 Michigan regional haze SIP submission.

Table 1—Emission Reductions: 2005 to 2009 vs Projected 2018 Reductions
[tpy]
| NH3 | NOX | SO2 | PM10 | PM2.5 | ROG
2005 to 2018 expected reduction | −78,156 | 276,933 | 124,817 | −572 | −4,646 | 177,622
2005 to 2009 reduction | −5,880 | 139,306 | 135,986 | −7,120 | −10,881 | 78,872
% of reductions achieved | N/A | 50% | 28% | N/A | N/A | 30%

For NH3, Michigan reports a 2005 base of 67,489 tons, 2009 emissions of 73,369 tons, and projects 78,156 tons in 2018, which is an increase of 15.8% from the 2005 base year. Non-point source, agricultural livestock manure management in particular, are the main sector for NH3 emissions in Michigan.

For ROG emissions, Michigan reports a 2005 base of 564,643 tons, 2009 emissions of 485,771 tons, and projects 396,921 tons in 2018, which is a decrease of 30% from the 20005 base year. Michigan's anthropogenic ROG emissions are mainly from mobile and non-point sources. These emissions are gradually decreasing from implementation of a variety of programs.

EPA finds that Michigan has satisfied the requirement of an analysis tracking emissions progress for the current five-year period. Michigan appears to be on track for reaching its 2018 emission projections.

5. Assessment of Any Significant Changes in Anthropogenic Emissions

Michigan provided an assessment of SO2, NOX, and NH3 emissions changes in-state and for the three states (Illinois, Minnesota and Wisconsin) that contribute to visibility impairment at Class I areas in Michigan.

Michigan reported 2009 emissions, which show a 28 percent SO2 reduction from the 2005 base year, a 50 percent NOX reduction, and an eight percent increase in NH3 emissions.

Michigan also included emissions data from EPA's Clean Air Markets Division (CAMD) that show reductions in both SO2 and NOX emissions for each of the three contributing states from 2009 to 2013. For the Isle Royale Class I area, it is evident that the emission reduction for the top ten impacting point sources combined was largest for SO2 with a reduction of almost 48,000 tons over the 2009-13 period. A reduction of NOx for these 10 sources combined was determined at approximately 8,400 tons. These reductions account for more than one-third of statewide point source NOX emissions reductions and over one-half of statewide point source SO2 reductions for the 2009-2013 period. The source with by far the largest combined NOX and SO2 reductions was the DTE Monroe Power Plant with combined NOX/SO2 reductions of 47,000 tons.

EPA finds that Michigan properly assessed available information for significant changes in emissions over the past five years that have impeded progress in improving visibility. The three contributing states are still in various stages in assessing emissions for progress reports. Minnesota's progress report was submitted in December, 2014. Progress reports for Illinois and Wisconsin had not yet been submitted as of the date of Michigan's submittal. Thus, Michigan had not completed the assessment of contributing states' emissions. Still, Michigan gathered the information it could, and the visibility data indicates visibility improvement is on-track. Supplementing the available data, EPA's CAMD data show significant, widespread SO2 and NOX emission declines have already occurred. There is no evidence that progress is being impeded.

6. Assessment of Whether the SIP Elements and Strategies Are Sufficient To Enable Michigan, or Other States, Meet RPGs

Michigan has implemented, or expects to implement by 2018, all controls from its approved regional haze plan. Michigan noted in the progress report that its emissions are on track for the 2018 goals, including reductions that are ahead of pace for the key visibility-impairing pollutants, SO2 and NOX. Michigan expects that the implementation of CSAPR and other Federal programs will address the reasonable progress obligations of the contributing states.

Emission reductions from Michigan sources that help visibility improvement at Isle Royale and Seney support visibility improvement. Michigan has achieved greater SO2 emission reductions than predicted in its regional haze plan.

EPA finds that Michigan has provided an assessment of the current strategy, demonstrating that it is sufficient to meet reasonable progress goals at all Class I areas impacted by Michigan emissions. Michigan is implementing its controls. The visibility progress at both Isle Royale and Seney is on track and suggests that Michigan's current strategy is sufficient to meet its reasonable progress goals.

7. Review of the State's Visibility Monitoring Strategy

Michigan stated in its progress report that Interagency Monitoring of Protected Visual Environments (IMPROVE) sites operate at both Class I areas, Isle Royale and Seney. Michigan will continue to operate the IMPROVE network monitors, based on Federal funding. The State has a contingency plan to use the PM2.5 monitoring network if needed due to future reductions to the IMPROVE network. Michigan commits to meeting the reporting requirements of 40 CFR 51.308(d)(4)(iv) for its Class I areas.

EPA finds that Michigan has met the visibility monitoring strategy review requirements.

40 CFR 51.308(h) Determination of the Adequacy of Existing Implementation Plan

The determination of adequacy for the regional haze plan is required to be submitted at same time as the progress report. The rule requires the State to select from four options based on the information given in the progress report.

Michigan submitted a negative declaration indicating that further substantive revision of its regional haze plan is not needed at this time. Michigan determined that its regional haze plan is adequate to meet the Regional Haze Rule requirements and expects to achieve the reasonable progress goals at Isle Royale and Seney.

EPA finds that the current Michigan regional haze plan is adequate to achieve its established goals. Michigan is on track to meet the visibility improvement and emission reduction goals.

Public Participation and Federal Land Manager Consultation

Michigan provided an opportunity for the public and Federal Land Managers (FLMs) to review Michigan's progress report by November 18, 2015. Michigan's progress report includes in Appendix B, the FLM's comments and Michigan's response to those comments. Appendix C includes the public comments and Michigan's response to those comments.

Michigan also published notification for a public hearing and solicitation for full public comment concerning the draft five-year progress report in widely distributed county publications. No public hearing was requested.

EPA finds that Michigan has addressed the applicable requirements in 51.308(i) regarding FLM consultation.

IV. What action is EPA taking?

EPA is approving the regional haze progress report submitted on January 12, 2016, as a revision to the Michigan SIP. We find that Michigan has satisfied the progress report requirements of 40 CFR 51.308(g). We find that Michigan has also met the 40 CFR 51.308(h) requirements for a determination of the adequacy of its regional haze plan with its negative declaration also submitted on January 12, 2016.

We are publishing this action without prior proposal because we view this as a noncontroversial amendment and anticipate no adverse comments. However, in the proposed rules section of this Federal Register publication, we are publishing a separate document that will serve as the proposal to approve the State plan if relevant adverse written comments are filed. This rule will be effective December 18, 2017 without further notice unless we receive relevant adverse written comments by November 17, 2017. If we receive such comments, we will withdraw this action before the effective date by publishing a subsequent document that will withdraw the final action. Public comments will then be addressed in a subsequent final rule based on the proposed action. EPA will not institute a second comment period. Any parties interested in commenting on this action should do so at this time. Please note that if EPA receives adverse comment on an amendment, paragraph, or section of this rule and if that provision may be severed from the remainder of the rule, EPA may adopt as final those provisions of the rule that are not the subject of an adverse comment. If we do not receive any comments, this action will be effective December 18, 2017.

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by December 18, 2017. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2)).

List of Subjects in 40 CFR Part 52

Environmental protection, Air pollution control, Incorporation by reference, Intergovernmental relations, Nitrogen dioxide, Particulate matter, Reporting and recordkeeping requirements, Sulfur oxides, Volatile organic compounds.

Dated: September 28, 2017.
Robert A. Kaplan,
Acting Regional Administrator, Region 5.

40 CFR part 52 is amended as follows:

PART 52—APPROVAL AND PROMULGATION OF IMPLEMENTATION PLANS

1. The authority citation for part 52 continues to read as follows:

Authority: 42 U.S.C. 7401 et seq.

2. In § 52.1170, the table in paragraph (e) is amended by adding the entry “Regional Haze Progress Report” to follow the entry titled “Regional Haze Plan” to read as follows:

§ 52.1170 Identification of plan.

* * * * *

(e) * * *

EPA-Approved Michigan Nonregulatory and Quasi-Regulatory Provisions
Name of nonregulatory SIP provision | Applicable geographic or nonattainment area | State submittal date | EPA approval date | Comments
* * * * * * *
Regional Haze Progress Report | Statewide | 1/12/2016 | 10/18/2017, [insert Federal Register citation]
* * * * * * *

[FR Doc. 2017-22510 Filed 10-17-17; 8:45 am]

BILLING CODE 6560-50-P